DEPARTMENT OF THE INTERIOR

National Park Service

Chesapeake and Ohio Canal National Historical Park Advisory Commission; Notice of Public Meeting

AGENCY: Department of the Interior, National Park Service.

ACTION: Notice of meeting.

SUMMARY: Notice is hereby given that a meeting of the Chesapeake and Ohio Canal National Historical Park Advisory Commission will be held at 9 a.m., on Friday, February 12, 2010, at the House of Sweden, 2900 K Street, NW., Washington, DC 20007.

DATES: Friday, February 12, 2010.

ADDRESSES: House of Sweden, 2900, 2900 K Street, NW., Washington, DC.

FOR FURTHER INFORMATION CONTACT: Kevin Brandt, Superintendent, Chesapeake and Ohio Canal National Historical Park, 1850 Dual Highway, Suite 100, Hagerstown, Maryland 21740, telephone: (301) 714-2201.

SUPPLEMENTARY INFORMATION: The Commission was established by Public Law 91-664 to meet and consult with the Secretary of the Interior on general policies and specific matters related to the administration and development of the Chesapeake and Ohio Canal National Historical Park.

Normally, notice of advisory committee meetings are published at least 15 calendar days prior to the meeting date. Due to an unanticipated administrative delay in preparing this notice, it could not be published at least 15 days prior to the meeting date. The National Park Service regrets this error, but is compelled to hold the meeting as scheduled because of the significant sacrifice re-scheduling would require of the Commission members who have adjusted their schedules to accommodate the proposed meeting dates and the high level of anticipation by all parties who will be affected by the outcome of the Commission's actions. Since there has been advance notice to the Commission members and local public interest groups about this meeting, the National Park Service believes that the public interest will not be adversely affected by the less-than-15-days advance notice in the Federal Register.

The members of the Commission are as follows:

Mrs. Sheila Rabb Weidenfeld, Chairperson.

Mr. Charles J. Weir.

Mr. Barry A. Passett.

Mr. James G. McCleaf, II.

Mr. John A. Ziegler.

Mrs. Mary E. Woodward.

Mrs. Donna Printz.

Mrs. Ferial S. Bishop.

Ms. Nancy C. Long.

Mrs. Jo Reynolds.

Dr. James H. Gilford.

Brother James Kirkpatrick.

Dr. George E. Lewis, Jr.

Mr. Charles D. McElrath.

Ms. Patricia Schooley.

Mr. Jack Reeder.

Ms. Merrily Pierce.

Topics that will be presented during the meeting include:

1. Update on park operations.

2. Update on major construction development projects.

3. Update on partnership projects.

The meeting will be open to the public. Any member of the public may file with the Commission a written statement concerning the matters to be discussed. Persons wishing further information concerning this meeting, or who wish to submit written statements, may contact Kevin Brandt, Superintendent, Chesapeake and Ohio Canal National Historical Park. Before including your address, phone number, e-mail address, or other personal identifying information in your comment, you should be aware that your entire comment—including your personal identifying information—may be made publicly available at any time. While you can ask us in your comment to withhold your personal identifying information from public review, we cannot guarantee that we will be able to do so. Minutes of the meeting will be available for public inspection six weeks after the meeting at Chesapeake and Ohio Canal National Historical Park Headquarters, 1850 Dual Highway, Suite 100, Hagerstown, Maryland 21740.

Dated: January 15, 2010.
Brian T. Carlstrom,
Deputy Superintendent, Chesapeake and Ohio, Canal National Historical Park.

[FR Doc. 2010-1911 Filed 1-28-10; 8:45 am]

BILLING CODE P